DEPARTMENT OF THE TREASURY

Submission for OMB Review; Comment Request

August 25, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before October 1, 2009 to be assured of consideration.

Internal Revenue Service (IRS)

OMB Number: 1545-1974.

Type of Review: Revision.

Title: Profit and Loss from Business.

Description: Schedule C (Form 1040) is used by individuals to report their business income, loss and expenses. The data is used to verify that the items reported on the form is correct and also for general statistical use.

Respondents: Businesses or other for-profits.

Estimated Total Burden Hours: 71,701,692 hours.

OMB Number: 1545-1683.

Type of Review: Extension.

Title: Notice Concerning Fiduciary Relationship—Illinois Type Land Trust.

Description: The data collected on the forms provides trustees of Illinois Land Trusts a convenient method of reporting information related to creating, changing, and closing such trusts.

Respondents: Businesses or other for-profits.

Estimated Total Burden Hours: 22,000 hours.

OMB Number: 1545-0162.

Type of Review: Revision.

Title: Credit for Federal Tax Paid on Fuels.

Description: Internal Revenue Code section 34 allows a credit for Federal excise tax for certain fuel uses. This form is used to figure the amount of the income tax credit. The data is used to verify the validity of the claim for the type of nontaxable or exempt use.

Respondents: Businesses or other for-profits.

Estimated Total Burden Hours: 4,122,067 hours.

OMB Number: 1545-0996.

Type of Review: Extension.

Title: REG-130477-00; REG-130481-00 (Final), Required Distributions from Retirement Plans.

Description: The regulations relate to the required minimum distribution from qualified plans, individual retirement plans, deferred compensation plans under section 457, and section 403(b) annuity contracts, custodial accounts, and retirement income accounts.

Respondents: State, Local, and Tribal Governments.

Estimated Total Burden Hours: 8,400 hours.

OMB Number: 1545-1260.

Type of Review: Extension.

Title: CO-62-89 (Final) Final Regulations under Section 382 of the Internal Revenue Code of 1986; Limitations on Corporate Net Operating Loss Carryfowards.

Description: The reporting requirement concerns the election a taxpayer may make to treat as the change data the effective data of a plan of reorganization in a title II or similar case rather than the confirmation date of a plan.

Respondents: Businesses or other for-profits.

Estimated Total Burden Hours: 1 hour.

OMB Number: 1545-1832.

Type of Review: Extension.

Title: Systemic Advocacy Issue Submission Form.

Description: Form 14411 is to be used by individuals, businesses, practitioners and other public groups to identify systemic problems that taxpayers are encountering with IRS. This form will be submitted electronically via the IRS.gov website. Mailed or faxed forms will be accepted and are necessary.

Respondents: Businesses or other for-profits.

Estimated Total Burden Hours: 336 hours.

OMB Number: 1545-0166.

Type of Review: Extension.

Title: Recapture of Investment Credit.

Description: IRC section 50(a) and Regulation section 1.47 require that taxpayers attach a statement to their return showing the computation of the recapture tax when investment credit property is disposed of before the end of the recapture period used in the original computation of the investment credit.

Respondents: Businesses or other for-profits.

Estimated Total Burden Hours: 129,492 hours.

OMB Number: 1545-1983.

Type of Review: Extension.

Title: Qualified Railroad Track Maintenance Credit.

Description: Form 8900, Qualified Railroad Track Maintenance Credit, was developed to carry out the provisions of new Code section 45G. This new section was added by section 245 of the American Jobs Creation Act of 2004 (Pub. L. 108-357). The new form provides a means for the eligible taxpayers to compute the amount of credit.

Respondents: Businesses or other for-profits.

Estimated Total Burden Hours: 1,985 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-21031 Filed 8-31-09; 8:45 am]

BILLING CODE 4810-01-P